DEPARTMENT OF ENERGY

Federal Energy Regulatory Commission

Notice Setting Forth Timeline

May 22, 2008.

PSEG Energy Resources & Trade LLC | Docket No. ER99-3151-008
Public Service Electric and Gas Company | Docket No. ER97-837-007
PSEG Power Connecticut LLC | Docket No. ER03-327-002
PSEG Fossil LLC | Docket No. ER08-447-000
PSEG Nuclear LLC | Docket No. ER08-448-000
Allegheny Power | Docket No. ER98-1466-005
Allegheny Energy Supply Company, LLC | Docket No. ER00-814-006
Green Valley Hydro, LLC | Docket No. ER00-2924-006
Buchanan Generation, LLC | Docket No. ER02-1638-005
PPL Electric Utilities Corporation | Docket No. ER00-1712-008
Lower Mount Bethel Energy, LLC | Docket No. ER02-2408-003
PPL Brunner Island, LLC | Docket No. ER00-744-006
PPL Holtwood, LLC | Docket No. ER00-744-006
PPL Marlins Creek, LLC | Docket No. ER00-744-006
PPL Montour, LLC | Docket No. ER00-744-006
PPL Susquehanna, LLC | Docket No. ER00-744-006
PPL University Park, LLC | Docket No. ER02-1327-005
PPL EnergyPlus, LLC | Docket No. ER00-1703-003
PPL Edgewood Energy, LLC | Docket No. ER02-1749-003
PPL Shoreham Energy, LLC | Docket No. ER02-1747-003
PPL Great Works, LLC | Docket No. ER99-4503-005
PPL Maine, LLC | Docket No. ER00-2186-003
PPL Wallingford Energy LLC | Docket No. ER01-1559-004
Atlantic City Electric Company | Docket No. ER96-1361-013
Delmarva Power & Light Company | Docket No. ER99-2781-011
Potomac Electric Power Company | Docket No. ER98-4138-009
Conectiv Energy Supply, Inc. | Docket No. ER00-1770-019
Conectiv Bethlehem, LLC | Docket No. ER02-453-010
Pepco Energy Services, Inc. | Docket No. ER98-3096-015
Bethlehem Renewable Energy, LLC | Docket No. ER07-903-002
Eastern Landfill Gas, LLC | Docket No. ER05-1054-003
Potomac Power Resources, LLC | Docket No. ER01-202-008
Fauquier Landfill Gas, LLC | Docket No. ER04-472-007
Dominion Energy Marketing, Inc. | Docket No. ER01-468-008
Dominion Nuclear Connecticut, Inc. | Docket No. ER00-3621-009
Dominion Nuclear Marketing III, LLC | Docket No. ER00-3746-009
Dominion Energy Kewaunee, Inc. | Docket No. ER04-318-004
Dominion Energy Brayton Point, LLC | Docket No. ER05-36-005
Dominion Energy Manchester Street, Inc. | Docket No. ER05-37-005
Dominion Energy New England, Inc. | Docket No. ER05-34-005
Dominion Energy Salem | Docket No. ER05-35-005
Dominion Retail, Inc. | Docket No. ER04-249-005
Elwood Energy, LLC | Docket No. ER99-1695-010
Fairless Energy, LLC | Docket No. ER02-23-011
Kincaid Generation, LLC | Docket No. ER97-30-006
State Line Energy, LLC | Docket No. ER96-2869-013
Virginia Electric and Power Company | Docket No. ER97-3561-005 Docket No. ER00-1737-011
Baltimore Gas and Electric Company. Docket No. ER99-2948-012
Constellation Power Source Generation, Inc.. Docket No. ER00-2918-011
Calvert Cliffs Nuclear Power Plant, Inc.. Docket No. ER00-2917-011
Constellation Energy Commodities Group, Inc.. Docket No. ER97-2261-022
Handsome Lake Energy, LLC. Docket No. ER01-556-010
Nine Mile Point Nuclear Station, LLC | Docket No. ER01-1654-013
Constellation NewEnergy, Inc. | Docket No. ER02-2567-011
Constellation Energy Commodities Group Maine, LLC | Docket No. ER02-699-005
R.E. Ginna Nuclear Power Plant, LLC | Docket No. ER04-485-008
Raven One, LLC | Docket No. ER07-247-003
Raven Two, LLC | Docket No. ER07-245-003
Raven Three, LLC | Docket No. ER07-244-003
Exelon Generation Company, LLC | Docket No. ER00-3251-015
AmerGen Energy Company, LLC | Docket No. ER99-754-016
Commonwealth Edison Company | Docket No. ER98-1734-014
Exelon Energy Company | Docket No. ER01-1919-011
PECO Energy Company | Docket No. ER01-1147-006
Exelon West Medway, LLC | Docket No. ER01-513-021
Exelon Wyman, LLC | Docket No. ER01-513-021
Exelon New Boston, LLC | Docket No. ER01-513-021
Exelon Framingham, LLC | Docket No. ER01-513-021
Exelon New England Power Marketing, L.P. | Docket No. ER99-2404-011
FirstEnergy Operating Companies | Docket No. ER01-1403-006
Pennsylvania Power Company, et al. Docket No. ER06-1443-002
Jersey Central Power & Light Company | Docket No. ER04-366-005
FirstEnergy Solutions Corp. | Docket No. ER01-2968-007
FirstEnergy Generation Corporation | Docket No. ER01-845-006
FirstEnergy Nuclear Generating Corporation | Docket No. ER05-1122-004
FirstEnergy Generating Mansfield Unit 1 Corp. | Docket No. ER08-107-001
(Collectively PJM RTO Filers).

On April 30, 2008, PJM Interconnection L.L.C. (PJM) filed a motion to intervene out-of-time in the above-referenced dockets for the purpose of submitting its current simultaneous import capability limit (SIL) study of the PJM regional transmission organization (RTO) footprint, with the exception of the Eastern PJM submarket (PJM-East). The April 30 PJM filing was made in response to an April 4, 2008 request for additional information regarding the PJM RTO Filers' updated market power analyses filed on January 14, 2008.¹

¹ PSEG Energy Resources & Trade LLC, Docket No. ER99-3151-008 (April 4, 2008) (unpublished letter order) (April 4 data request).

Specifically, the April 4 data request directed the PJM RTO Filers to provide a SIL study consistent with Order No. 697, or provide a SIL study done by PJM that it believes adequately addresses the principles for how to measure SIL.

In its April 30 filing, PJM committed to provide a further SIL study for the PJM-East submarket in a subsequent Commission filing.

On May 9, 2008, a Notice of Conference Call was issued. That notice also granted the PJM RTO Filers and PJM an extension of time in which to respond further to the April 4 data request (e.g., providing a SIL study for the PJM-East submarket) and stated that the Commission would issue a future notice setting forth a timeline for compliance. The conference call took place on May 15, 2008.

Regarding PJM's commitment to file a SIL study for the PJM-East submarket, PJM should submit that SIL study for the PJM-East submarket within 10 days of the date of this notice, and it may use the same methodology as it used in its April 30, 2008 filing. Once the PJM-East SIL study has been filed, a notice will be issued soliciting comments on both that study and the PJM SIL study that was filed on April 30, 2008. That notice will also instruct the PJM RTO Filers on when they must comply with the remaining requirements of the April 4 data request.

Kimberly D. Bose,
Secretary.

[FR Doc. E8-12137 Filed 5-30-08; 8:45 am]

BILLING CODE 6717-01-P